DEPARTMENT OF TRANSPORTATION

Research and Special Programs Administration (RSPA)

[Notice No. 00-11]

AGENCY: Research and Special Programs Administration, DOT.

ACTION: Advisory Notice.

SUMMARY: Until recently, Q3 Comdyne, Inc. held four exemptions authorizing the manufacture, mark and sale of non-DOT specification fiber reinforced plastic (FRP) full composite (FC) cylinders. Recently, RSPA (we) was informed that Q3 Comdyne, Inc., is no longer in business. We are issuing this advisory notice to (1) provide information concerning the current requirements for transportation of the cylinders under exemption, and (2) inform the owners and users of these cylinders of the actions we have taken to date and plan to take in the future.

FOR FURTHER INFORMATION CONTACT: Sherrie Nelson, Office of Hazardous Materials Exemptions and Approvals, RSPA, Department of Transportation, 400 Seventh Street, SW, Washington, DC 20590-0001, Telephone (202) 366-4535.

SUPPLEMENTARY INFORMATION: Recently, RSPA was notified by Q3 Comdyne, Inc. that it is no longer in business. Q3 Comdyne, Inc. was the grantee of four exemptions (E-9716, E-10823, 10256, and E-10905) authorizing the manufacture, mark, and sale (MMS) of FRP cylinders. After receiving several applications for renewal from cylinder owners and users and in light of Q3 Comdyne's current business status, we have modified DOT E-9716 and 10256 by converting them from MMS exemptions to “offeror” exemptions. The exemption change permits the continued use of the Comdyne exemption cylinders. Determination of whether party status is required on any of these exemptions is based on the following criteria: (1) A person filling and offering a cylinder for transportation in commerce would be required to have party status; (2) A person only reoffering a cylinder without modifying or changing the cylinder or its contents would not require party status. The requirements for exemption renewal are applicable to both the grantee and persons holding party status in accordance with 49 CFR 107.109. A fire department filling and offering a cylinder, containing a hazardous material, for transportation that is not in commerce is not required to have party status to the exemption. However, we do recommend each person who uses an exemption package maintain a current copy of the exemption. Current copies of DOT-E 9716 and 10256 are available on the HazMat Safety Homepage at http://hazmat.dot.gov.

Issued in Washington, DC on September 28, 2000.
Robert A. McGuire,
Associate Administrator for Hazardous Materials Safety.

[FR Doc. 00-25448 Filed 10-3-00; 8:45 am]

BILLING CODE 4910-60-M